DEPARTMENT OF ENERGY

Energy Information Administration

Agency Information Collection Activities: Proposed Collection; Comment Request

AGENCY: Energy Information Administration (EIA), Department of Energy (DOE).

ACTION: Agency information collection activities: proposed collection; comment request.

SUMMARY: EIA is soliciting comments on the proposed new survey Form EIA-913, “Monthly and Annual Liquefied Natural Gas (LNG) Storage Reports.”

DATES: Comments must be filed by November 17, 2003. If you anticipate difficulty in submitting comments within that period, contact the person listed below as soon as possible.

FOR FURTHER INFORMATION CONTACT: Send comments to Ms. Poonum Agrawal. To ensure receipt of the comments by the due date, submission by e-mail to Poonum.Agrawal@eia.doe.gov is recommended. Poonum Agrawal may be contacted by telephone at (202) 586-6048 or facsimile at (202) 586-4420; however, submission by e-mail is the preferred medium for correspondence. The mailing address is: Natural Gas Division (Attn: EIA-913 Comments), EI-44, Forrestal Building, U.S. Department of Energy, Washington, DC 20585.

FOR FURTHER INFORMATION: Please visit http://www.eia.doe.gov/oil_gas/natural_gas/survey_forms/nat_proposed_forms.html for additional information or copies of the form and instructions. Requests for this information may also be directed to Poonum Agrawal at the contact information listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require EIA to carry out a centralized, comprehensive, and unified energy information program. This program collects, evaluates, assembles, analyzes, and disseminates information on energy resource reserves, production, demand, technology, and related economic and statistical information. This information is used to assess the adequacy of energy resources to meet near- and long-term domestic demands.

EIA, as part of its effort to comply with the Paperwork Reduction Act of 1995 (Pub. L. 104-13, 44 U.S.C. Chapter 35), provides the general public and other Federal agencies with opportunities to comment on collections of energy information conducted by or in conjunction with EIA. Any comments received help EIA to prepare data requests that maximize the utility of the information collected, and to assess the impact of collection requirements on the industry. Based on review of the comments and field test results, EIA will seek approval by the Office of Management and Budget (OMB) under section 3507(a) of the Paperwork Reduction Act of 1995.

The purpose of Form EIA-913, “Monthly and Annual Liquefied Natural Gas (LNG) Storage Report,” is to collect data on the inventory levels of LNG and operational capacities of active LNG storage facilities in the United States.

Survey respondents would include all operators of facilities that store LNG for baseload, seasonal, and peak demand delivery in the United States, or for delivery to United States customers for these purposes. This includes operators with LNG inventories such as distribution companies, pipeline companies, liquefaction facilities, LNG wholesalers (excluding retailers who sell LNG exclusively for ultimate vehicular fuel use), and marine terminals providing peaking storage services. The survey coverage does not include LNG inventories held by any industrial, residential, commercial, or power generation operations for ultimate consumption. The respondents for Form EIA-913 will comprise operators of approximately 100 LNG storage facilities (the total estimated number of facilities currently active in the United States).

Data would be collected pursuant to the Federal Energy Administration (FEA) Act of 1974, Public Law 93-275. The report will be mandatory under the FEA Act. The data would appear in the EIA publications, Monthly Energy Review, Natural Gas Annual, and Natural Gas Monthly.

This collection is essential to the mission of the DOE in general and EIA in particular. This request for clearance was necessitated by the increasing role of LNG storage as a source of natural gas supply, especially during periods of peak demand, and the subsequent need to monitor its activity for a better understanding of the U.S. natural gas supply and demand balance. Much like the existing EIA underground natural gas storage survey, the new LNG survey is expected to be widely used by industry analysts and Federal and State agencies to monitor gas markets. Recognizing the importance of LNG storage activities to gas market information, DOE Secretary Spencer Abraham requested on June 26, 2003, that EIA plan a new survey of LNG storage activities to collect better information and achieve better market efficiency.

EIA may eventually consider the value of a weekly sample survey of LNG inventories after the monthly survey is operating in a stable manner and if evidence indicates that greater timeliness of data would enhance understanding of the overall natural gas supply situation.

Respondents would be expected to complete the EIA-913 Annual Schedule at the start of the survey and subsequently once a year and whenever a new facility begins operation or a change in operator or storage capacity occurs. The completed EIA-913 Monthly Schedule would be due 20 days after the conclusion of the report month. Data would be submitted by e-mail, facsimile, or the secure file transfer (SFT) system to EIA. Please note that email and facsimile are not secure methods of file transfer. SFT is based on the secure hypertext transfer protocol (HTTPS), an industry standard method to send information over the web using a secure, encrypted process. All information is protected by 128-bit encryption to maintain the privacy and confidentiality of transmitted data.

Data elements for the proposed survey are listed below. Please refer to http://www.eia.doe.gov/oil_gas/natural_gas/survey_forms/nat_proposed_forms.html for a copy of the proposed form and instructions.

Monthly Schedule

1. Respondent identification data.

2. Monthly LNG storage data:

a. Facility name.

b. Facility location.

c. LNG storage additions, and Btu heat content of additions.

d. LNG withdrawals, and Btu heat content of withdrawals.

e. End-of-period LNG inventories, and Btu heat content of inventories.

f. Peak day withdrawals.

g. Peak day.

3. Comments.

Annual Schedule

1. Respondent identification data.

2. Annual facility characteristics:

a. Storage facility name.

b. Location.

c. Type of operation (distribution company, pipeline company, marine terminal with peaking service, LNG wholesaler, liquefaction facility, other).

d. Storage facility capacity.

e. Liquefaction capacity.

f. Trailer unloading capacity.

g. Vaporization capacity.

h. Trailer loading capacity.

i. Change in capacity.

3. Comments.

EIA is proposing to treat the information collected on Form EIA-913 as confidential in accordance with existing EIA confidentiality provisions. Under these provisions, survey information is treated as confidential and is not publicly released. However, upon request for official uses the information may be shared with another component of the Department of Energy, any Committee of Congress, the General Accounting Office, and other Federal agencies authorized by law to receive such information. A court of competent jurisdiction may obtain the information in response to an order.

EIA will publish monthly inventory estimates and net withdrawals estimates (withdrawals minus additions) as well as annual information on LNG storage capacities for the United States and several multi-state regions to the extent that confidentiality for company-specific information allows. In order to preserve the confidentiality of company-specific information, EIA Standard 2002-22, “Non-disclosure of Company Identifiable Data in Aggregate Cells,” would be used. A copy of this standard may be obtained at http://www.eia.doe.gov/smg/standard.pdf. Under these rules, EIA-913 information would be published at an aggregate multi-state level based on the current EIA underground storage regions. Such primary suppression of confidential data may result in further complementary suppression of data in publications in which this data may be incorporated. Thus, confidentiality of company-specific information would be maintained at the loss of geographic detail. However this rule could be waived if the affected respondents agree.

The operators of LNG storage facilities will be asked to submit monthly reports of inventories, additions and withdrawals, and annual reports of facility characteristics. EIA will publish monthly inventory estimates and net withdrawals estimates (withdrawals minus additions) for the United States and several multi-state regions to the extent that confidentiality for company-specific information allows. These regions are chosen based on the current EIA underground natural gas storage regions, which reflect the major natural gas production and distribution regions, familiarity to both respondents and data users and current EIA disclosure restrictions. The following is an example of the monthly data format and regions:

Region | Total storage capacity | Inventory | Percent change from same period last year | Net withdrawals
East |  |  |  |
New England and Mid-Atlantic |  |  |  |
Other |  |  |  |
West & Producing |  |  |  |
USA Total |  |  |  |

Similarly annual summaries of facility characteristics will be provided at the United States level and the same multi-state regions to the extent that confidentiality for company-specific information allows.

As an alternative to collecting the data under the confidentiality arrangements outlined above, EIA has the option of collecting the Form EIA-913 information as confidential in accordance with the Confidential Information Protection and Statistical Efficiency Act of 2002 (CIPSEA) (Title 5 of Pub. L. 107-347). If the Form EIA-913 information is collected under CIPSEA, the information could not be disclosed by EIA in identifiable form, for any use other than an exclusively statistical purpose, except with the informed consent of the respondent. As defined in CIPSEA, the term “statistical purpose” (A) means the description, estimation, or analysis of the characteristics of groups, without identifying the individuals or organizations that comprise such groups; and (B) includes the development, implementation, or maintenance of methods, technical or administrative procedures, or information resources that support the purposes described in subparagraph (A).

The requirement that information collected under CIPSEA be used exclusively for statistical purposes has both advantages and disadvantages. A primary advantage of collecting information in accordance with CIPSEA is that the information could not be used for any non-statistical purpose including any administrative, regulatory, law enforcement, adjudicatory, or other purpose that affects the rights, privileges, or benefits of a particular identifiable respondent. A primary disadvantage in collecting information in accordance with CIPSEA is that, without a respondent's informed consent, the information could not be shared with other Federal non-EIA personnel for non-statistical purposes in the event of a major energy supply situation. This restriction on sharing could severely hamper any timely U.S. government actions in the event of significant supply problems.

II. Current Actions

EIA will be requesting approval from the Office of Management and Budget (OMB) to conduct a monthly and annual information collection program via Form EIA-913, “Monthly and Annual Liquefied Natural Gas (LNG) Storage Report.” The respondents for the EIA-913 will comprise operators of approximately 100 LNG storage facilities (the total estimated number of facilities currently active in the United States).

III. Request for Comments

Prospective respondents and other interested parties should comment on the actions discussed in item II. The following guidelines are provided to assist in the preparation of comments.

1. General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

C. Should the proposed collection of information be conducted under EIA's existing confidentiality provisions, or under the provisions of the Confidential Information and Statistical Efficiency Act of 2002?

2. As a Potential Respondent to the Request for Information

A. What actions could be taken to help ensure and maximize the quality, objectivity, utility, and integrity of the information to be collected?

B. Are the instructions and definitions clear and sufficient? If not, which instructions or definitions need clarification?

C. Can the information be submitted by the due date?

D. Public reporting burden for this collection is estimated to average 1 hour for the Monthly Schedule and 3 hours for the Annual Schedule. The estimated burden includes the total time necessary to provide the requested information. In your opinion, how accurate is this estimate?

E. The agency estimates that the only cost to a respondent is for the time it will take to complete the survey form. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

H. Do you consider the EIA-913 information (additions, withdrawals, inventory, and facility characteristics) to be sensitive proprietary company information that should be treated as confidential? If so and the EIA-913 survey was conducted under CIPSEA, would your company sign an informed consent agreement for release of its EIA-913 information to other Federal agencies for use in preparing for and/or responding to defined emergency situations such as terrorist attacks, regional pipeline breaks, or LNG shipping disruptions? Any Federal agency with access to EIA-913 information would be required to sign a document agreeing to maintain the confidentiality of the information.

3. As a Potential User of the Information to be Collected

A. What actions could be taken to help ensure and maximize the quality, objectivity, utility, and integrity of the information disseminated?

B. Is the information useful at the levels of detail to be reported?

C. For what purpose(s) would the information be used? Be specific.

D. Are there alternative sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, September 10, 2003.
Jay H. Casselberry,
Agency Clearance Officer, Statistics and Methods Group, Energy Information Administration.

[FR Doc. 03-23568 Filed 9-15-03; 8:45 am]

BILLING CODE 6450-01-P